DEPARTMENT OF TRANSPORTATION

Federal Aviation Administration

Notice of Intent To Rule on Request To Release Airport Property at the Gunnison-Crested Butte Regional Airport, Gunnison, CO

AGENCY: Federal Aviation Administration (FAA), DOT.

ACTION: Notice of request to release airport property.

SUMMARY: The FAA proposes to rule and invite public comment on the release of land at the Gunnison-Crested Butte Regional Airport under the provisions of Section 47125(a) of Title 49 United States Code (U.S.C.).

DATES: Comments must be received on or before December 7, 2009.

ADDRESSES: Comments on this application may be mailed or delivered to the FAA at the following address: Mr. Craig A. Sparks, Manager, Federal Aviation Administration, Northwest Mountain Region, Airports Division, Denver Airports District Office, 26805 E. 68th Ave., Suite 224, Denver, Colorado, 80249.

In addition, one copy of any comments submitted to the FAA must be mailed or delivered to Mr. John DeVore, Airport Manager, 519 West Rio Grande, Gunnison, Colorado 81230.

FOR FURTHER INFORMATION CONTACT: Mr. Chris Schaffer, Project Manager, Federal Aviation Administration, Northwest Mountain Region, Airports Division, Denver Airports District Office, 26805 E. 68th Ave., Suite 224, Denver, Colorado 80249.

The request to release property may be reviewed in person at this same location.

SUPPLEMENTARY INFORMATION: The FAA invites public comment on the request to release property at the Gunnison-Crested Butte Regional Airport under the provisions of Section 47 125(a) of Title 49 United States Code (U.S.C.). On October 16, 2009, the FAA determined that the request to release property at the Gunnison-Crested Butte Regional Airport submitted by the County of Gunnison, Colorado met the procedural requirements of the Federal Aviation Regulations, Part 155. The FAA may approve the request, in whole or inpart, no later than December 7, 2009.

The following is a brief overview of the request:

The County of Gunnison, Colorado requests the release of 160 acres of non-aeronautical airport property, otherwise known as Parcel 41 of the Gunnison-Crested Butte Regional Airport. The purpose of this release is to allow non-aviation related development of the parcel. The sale of this parcel will provide funds for airport improvements.

Any person may inspect the request by appointment at the FAA office listed above under FOR FURTHER INFORMATION CONTACT.

In addition, any person may, inspect the application, notice and other documents germane to the application in person at the Gurmison-Crested Butte Regional Airport, 519 West Rio Grande, Gunnison, Colorado, 81230.

Issued in Denver, Colorado, on October 16, 2009.
Craig A. Sparks,
Manager, Denver Airports District Office.

[FR Doc. E9-26481 Filed 11-4-09; 8:45 am]

BILLING CODE 4910-13-M